DEPARTMENT OF HEALTH AND HUMAN SERVICES

Office of the Secretary

Findings of Misconduct in Science

AGENCY: Office of the Secretary, HHS.

ACTION: Notice.

SUMMARY: Notice is hereby given that the Office of Research Integrity (ORI) and the Assistant Secretary for Health have taken final action in the following case:

Ms. Sylvia Okoro, University of Maryland at Baltimore: Based on the University of Maryland at Baltimore (UMAB) investigation committee report and additional analysis and information obtained by ORI during its oversight review, the U.S. Public Health Service (PHS) found that Ms. Okoro, former Research Assistant, UMAB, engaged in misconduct in science by fabricating and falsifying patient data in research supported by National Institute on Aging (NIA), National Institutes of Health (NIH), grant R01 AG18461.

Specifically, Ms. Okoro intentionally and knowingly fabricated and falsified data for six visit dates on one patient data form and falsified and fabricated patient condition information on two additional study subjects by failing to note that each patient had experienced a fall as documented in their medical charts.

ORI has implemented the following administrative actions for a period of three (3) years, beginning July 17, 2006:

(1) Ms. Okoro is prohibited from serving in any advisory capacity to PHS, including but not limited to service on any PHS advisory committee, board, and/or peer review committee, or as a consultant; and

(2) Any institution that submits an application for PHS support for a research project on which Ms. Okoro's participation is proposed or which uses her services in any capacity on PHS supported research must concurrently submit a plan for supervision of her duties. The supervisory plan must be designed to ensure the scientific integrity of Ms. Okoro's research contribution and must be submitted to ORI by the institution.

FOR FURTHER INFORMATION CONTACT: Director, Division of Investigative Oversight, Office of Research Integrity, 1101 Wootton Parkway, Suite 750, Rockville, MD 20852, (240) 453-8800.

Chris B. Pascal, J.D.,
Director, Office of Research Integrity.

[FR Doc. E6-12857 Filed 8-7-06; 8:45 am]

BILLING CODE 4150-31-P